DEPARTMENT OF COMMERCE

International Trade Administration

Agency Information Collection Activities; Submission to the Office of Management and Budget (OMB) for Review and Approval; Comment Request; Collection Title: Survey of International Air Travelers (SIAT)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 18, 2021 during a 60-day comment period. This notice allows for an additional 30 days for public comments.

Agency: International Trade Administration, Department of Commerce.

Title: Survey of International Air Travelers (SIAT).

OMB Control Number: 0625-0227.

Form Number(s): None.

Type of Request: Regular submission.

Number of Respondents: 300,000.

Average Hours per Response: 15 minutes.

Burden Hours: 75,000.

Needs and Uses: The Survey of International Air Travelers (SIAT) program, administered by the National Travel and Tourism Office (NTTO) of the International Trade Administration provides source data required to: (1) Estimate international travel and passenger fare exports, imports, and the trade balance for the United States, (2) comply with the U.S. Travel Promotion Act of 2009 (Pub. L. 111-145), collect, analyze, and report information to the Corporation for Travel Promotion (CTP), and support U.S. exports, (3) comply with the 1945, 1961, 1981, and 1996 travel and tourism related acts to collect and publish comprehensive international travel and tourism statistics and other marketing information, and (4) support the continuation of the Travel & Tourism Satellite Accounts for the United States, which provide the only spending and employment figures for the industry. The SIAT program contains the core data that is analyzed and communicated by NTTO with other government agencies, associations and businesses that share the same objective of increasing U.S. international travel exports. The SIAT assists NTTO in assessing the economic impact of international travel on state and local economies, providing visitation estimates, key market intelligence, and identifying traveler and trip characteristics. The U.S. Department of Commerce assists travel industry enterprises to increase international travel and passenger fare exports for the country as well as outbound travel on U.S. carriers. The Survey program provides the only available estimates of nonresident visitation to the states and cities within the United States, as well as U.S. resident travel abroad. The SIAT also assists NTTO in producing in-depth statistical reports, fact sheets and briefings on economic factors and policy issues affecting U.S. industries. With the SIAT statistical data not replicable by private sector trade associations or by private firms, Federal agencies, Congress and international organizations rely on these statistic-based tools, as do American businesses, state and local governments, and news organizations.

Affected Public: Individuals or households; International air travelers departing the United States, 18 years or older which includes U.S. and non-U.S. residents from all countries.

Frequency: Monthly.

Respondent's Obligation: Voluntary.

Legal Authority: U.S. Travel Promotion Act of 2009 (Pub. L. 111-145).

This information collection request may be viewed at www.reginfo.gov. Follow the instructions to view the Department of Commerce collections currently under review by OMB.

Written comments and recommendations for the proposed information collection should be submitted within 30 days of the publication of this notice on the following website www.reginfo.gov/public/do/PRAMain. Find this information collection by selecting “Currently under 30-day Review—Open for Public Comments” or by using the search function and entering either the title of the collection or the OMB Control Number 0625-0227.

Sheleen Dumas,
Department PRA Clearance Officer, Office of the Chief Information Officer, Commerce Department.

[FR Doc. 2021-14157 Filed 7-1-21; 8:45 am]

BILLING CODE 3510-DR-P